NATIONAL SCIENCE FOUNDATION

Special Emphasis Panel in Advanced Computational Infrastructure and Research; Notice of Meeting

In accordance with the Federal Advisory Committee Act (Pub. L. 92-463, as amended), the National Science Foundation announces the following meeting:

Name: Special Emphasis Panel in Advanced Computational Infrastructure and Research (#1185).

Date/Time: May 3, 2001, 8:30 a.m.-5 p.m. and May 4, 2001, 8:30-2 p.m.

Place: Hyatt Reston, 1800 Presidents Street, Reston, VA.

Type of Meeting: Closed.

Contact Person: Dr. Richard Hilderbrandt, Program Director, Advanced Computational Infrastructure Program, Suite 1122, National Science Foundation, 4201 Wilson Boulevard, Arlington, VA 22230, (703) 306-1963.

Purpose of Meeting: To provide recommendations and advice concerning Distributed Terascale Facility (DTF) Proposals submitted to NSF for financial support.

Agenda: To review and evaluate Proposals in the Advanced Computational Infrastructure Program as part of the selection process for awards.

Reason for Closing: The proposals being reviewed include information of a proprietary or confidential nature, including technical information; financial data, such as salaries; and are personal information concerning individuals associated with the proposals. These matters are exempt under 5 U.S.C. 552b(c), (4) and (6) of the Government in the Sunshine Act.

Dated: April 17, 2001.
Susanne Bolton,
Committee Management Officer.

[FR Doc. 01-9849 Filed 4-19-01; 8:45 am]

BILLING CODE 7555-01-M